FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 22, 2015.

A. Federal Reserve Bank of Richmond (Adam M. Drimer, Assistant Vice President) 701 East Byrd Street, Richmond, Virginia 23261-4528:

1. Richard H. Thut, Orrville, Ohio; to acquire voting shares of Premara Financial, Inc., and thereby indirectly acquire voting shares of Carolina Premier Bank, both in Charlotte, North Carolina.

B. Federal Reserve Bank of Chicago (Colette A. Fried, Assistant Vice President) 230 South LaSalle Street, Chicago, Illinois 60690-1414:

1. Paul D. Easter, Des Moines, Iowa, individually, and the Easter Family Control Group which consists of Paul D. Easter, Sandra Easter, L. Donald Easter Trust, and as Co-Trustees: Paul Easter, Jane Bahls, David Easter, and Martha Easter-Wells; Estate of the Marian W. Easter Trust, all of Des Moines, Iowa, Jane Bahls, Rock Island, Illinois; David and Maud Easter, Delmar, New York; Martha Easter-Wells and Kriss Wells, both of LeClaire, Iowa; Ken Easter, Des Moines, Iowa; Jeremy Easter, West Des Moines, Iowa; Greg Easter, Minneapolis, Minnesota; Matt Easter, DPO, AP; Jeff Easter, San Francisco, California; Austin Wells, Mentor, Ohio; Linda Wells, Minneapolis, Minnesota; Jan Stump, West Des Moines, Iowa; Daniel Bahls, Springfield, Massachusetts; Timothy Bahls, Madison, Wisconsin; Angela Cummins, Tucson, Arizona, and Paul Easter as Executor; as a group acting in concert, to retain voting shares of Easter Enterprises, Inc., and thereby indirectly retain voting shares of Farmers Trust and Savings Bank, both in Spencer, Iowa.

C. Federal Reserve Bank of San Francisco (Gerald C. Tsai, Director, Applications and Enforcement) 101 Market Street, San Francisco, California 94105-1579:

1. Toinette Rossi, the Toinette Rossi Bank Trust, Valerie Rossi, the Valerie Rossi Bank Trust, all of Modesto, California; Terry R. Gutierrez, Ripon, California; Troy R. Gutierrez, Manteca, California; and A. Rossi, Inc., Manteca, California; to acquire voting shares of Delta National Bancorp, and thereby indirectly acquire voting shares of Delta Bank, National Association, both in Manteca, California.

2. Selwyn Isakow, LaJolla, California; to acquire voting shares of Private Bancorp of America, Inc., LaJolla, California, and thereby indirectly acquire voting shares of San Diego Private Bank, Coronado, California.

Board of Governors of the Federal Reserve System, October 2, 2015.
Robert deV. Frierson,
Secretary of the Board.

[FR Doc. 2015-25530 Filed 10-6-15; 8:45 am]

BILLING CODE 6210-01-P